DEPARTMENT OF COMMERCE

International Trade Administration

[A-570-806]

Notice of Initiation of the Administrative Review of the Antidumping Duty Order on Silicon Metal From the People's Republic of China

Correction

In notice document E7-15203 beginning on page 43597 in the issue of Monday, August 6, 2007, make the following correction:

On page 43597, in the table, under the heading “Period to be reviewed”, “June 1, 2007 through May 31, 2007” should read “06/01/06-05/31/07”.

[FR Doc. Z7-15203 Filed 8-17-07; 8:45 am]

BILLING CODE 1505-01-D

DEPARTMENT OF DEFENSE

Defense Acquisition Regulations System

48 CFR Part 202

Defense Federal Acquisition Regulation Supplement; Technical Amendments

Correction

In rule document E7-14897 appearing on page 42313 in the issue of Thursday, August 2, 2007, make the following correction:

§202.101 [Corrected]

In the second column, in section 202.101, under the heading “Army”, correct “Headquarters, U.S. Army Contracting Agency”, and “Joint Contracting Command-Iraq/Afghanistan” to be listed as two separate agencies.

[FR Doc. Z7-14897 Filed 8-17-07; 8:45 am]

BILLING CODE 1505-01-D

SECURITIES AND EXCHANGE COMMISSION

Submission for OMB Review; Comment Request

Upon Written Request, Copies Available from: Securities and Exchange Commission, Office of Investor Education and Assistance, Washington, DC 20549-0213.

Extension: Rule 302, SEC File No. 270-453, OMB Control No. 3235-0510.

Correction

In notice document E7-14842 appearing on page 42138 in the issue of Wednesday, August 1, 2007, make the following correction:

In the second column, the document heading is corrected to read as set forth above.

[FR Doc. Z7-14842 Filed 8-17-07; 8:45 am]

BILLING CODE 1505-01-D